DEPARTMENT OF AGRICULTURE

2 CFR Chapter IV

[Docket No. USDA-2024-0002]

RIN 0505-AA18

USDA Uniform Administrative Requirements, Cost Principles, and Audit Requirements for Federal Awards

Correction

In Proposed Rule document, 2024-13845, appearing on pages 54372 through 54393 in the issue of Monday, July 1, 2024, make the following corrections:

On page 54372, in the DATES section, on the second line, “July 1, 2024” is corrected to read, “July 31, 2024”.

[FR Doc. C1-2024-13845 Filed 7-2-24; 8:45 am]

BILLING CODE 0099-10-P